DEPARTMENT OF TRANSPORTATION

Office of the Secretary

[Docket No. DOT-OST—2014-0011]

National Freight Advisory Committee: Notice of Public Meeting

ACTION: Notice of public meeting.

SUMMARY: The U.S. Department of Transportation (DOT) announces a webinar meeting of its National Freight Advisory Committee (NFAC) to develop comments on the draft National Freight Strategic Plan (Plan.) This meeting is open to the public and there will be an opportunity for public comment.

DATES: The meeting will be held on Thursday, January 7, 2016, from 3:00 p.m. to 5:00 p.m., Eastern Standard Time.

ADDRESSES: The meeting will take place online, as a webinar.

FOR FURTHER INFORMATION CONTACT: John Drake, Deputy Assistant Secretary for Transportation Policy at (202) 366-1999 or nfac@dot.gov or visit the NFAC Web site at www.dot.gov/nfac.

SUPPLEMENTARY INFORMATION: Background: The NFAC was established to provide advice and recommendations to the Secretary on matters related to freight transportation in the United States, including (1) Implementation of the freight provisions of the Moving Ahead for Progress in the 21st Century Act (MAP-21; P.L. 112-141); (2) establishment of the National Freight Network; (3) development of the Plan; (4) development of strategies to help States implement State Freight Advisory Committees and State Freight Plans; (5) development of measures of conditions and performance in freight transportation; (6) development of freight transportation investment, data, and planning tools; and (7) legislative recommendations. The NFAC operates as a discretionary committee under the authority of the DOT, established in accordance with the provisions of the Federal Advisory Committee Act (FACA), as amended, 5 U.S.C. App. 2. See DOT's NFAC Web site for additional information about the committee's activities at www.transportation.gov/nfac.

On October 18, 2015, the DOT issued the draft National Freight Strategic Plan for public comment, available at www.transportation.gov/freight. The NFAC met on November 13, 2015 to discuss and begin developing Committee comments on the Plan. This Committee will finalize their comments during this webinar. Members of the public who would like to submit comment on the Plan may do so at: http://www.regulations.gov/#!docketDetail;D=DOT-OST-2015-0248.

Agenda: The agenda includes:

(1) Welcome and opening remarks;

(2) Update on FAST Act Freight provisions;

(3) Discussion on the draft National Freight Strategic Plan

(4) Public comment.

Public Participation: To participate in this meeting, members of the public must pre-register by emailing nfac@dot.gov with name, affiliation, and contact information no later than Monday, January 4, 2016. Upon email receipt, interested persons will receive a link to the webinar portal and conference line.

Written comments: Persons who wish to submit written comments for consideration by the Committee must email nfact@dot.gov or send them to John Drake, Deputy Assistant Secretary for Transportation Policy, National Freight Advisory Committee, 1200 New Jersey Avenue SE., W82-320, Washington, DC 20590 by January 4, 2016 to provide sufficient time for review.

Dated: December 15, 2015.
John Drake,
Deputy Assistant Secretary for Transportation Policy.

[FR Doc. 2015-32090 Filed 12-21-15; 8:45 am]

BILLING CODE 4910-9X-P